NATIONAL SCIENCE FOUNDATION

Proposed Information Collection; Correction

AGENCY: National Science Foundation.

ACTION: Notice; correction.

SUMMARY: The National Science Foundation published a notice on November 7, 2014, at 79 FR 66419, seeking comments on establishing an information collection for the Foundation's Large Facilities Program's Large Facilities Manual. The document did not include the link to view the draft manual.

FOR FURTHER INFORMATION CONTACT: Please send comments to Suzanne H. Plimpton, Reports Clearance Officer, National Science Foundation, 4201 Wilson Boulevard, Suite 295, Arlington, Virginia 22230 or send email to splimpto@nsf.gov. Individuals who use a telecommunications device for the deaf (TDD) may call the Federal Information Relay Service (FIRS) at 1-800-877-8339, which is accessible 24 hours a day, 7 days a week, 365 days a year (including federal holidays).

Correction

In the Federal Register of November 7, 2014, in FR Doc. 2014-26444, on page 66419, in the third column, in the ADDRESSES caption to read: “The draft Large Facilities Manual may be found at the following link: http://www.nsf.gov/bfa/lfo/NSF_Large_Facilities_Manual_110414_1700-WM_(for_OMB).pdf. Written comments regarding the information collection and requests for hard copies of the proposed information collection request should be addressed to Suzanne Plimpton, Reports Clearance Officer, National Science Foundation, 4201 Wilson Blvd., Rm. 1265, Arlington, VA 22230, or by email to splimpto@nsf.gov.”

Dated: November 13, 2014.
Suzanne H. Plimpton,
Reports Clearance Officer, National Science Foundation.

[FR Doc. 2014-27249 Filed 11-17-14; 8:45 am]

BILLING CODE 7555-01-P